SECURITIES AND EXCHANGE COMMISSION

[File No. 500-1]

In the Matter of Terax Energy, Inc.; Corrected Order of Suspension of Trading

September 12, 2007.

It appears to the Securities and Exchange Commission that there is a lack of current and accurate information concerning the securities of Terax Energy, Inc. (“Terax,” trading symbol TEXG.OB), because of questions regarding the accuracy of assertions by Terax and by others, in reports filed with the Commission and in press releases to investors concerning, among other things: (1) The status of Terax's oil and gas operations, (2) Terax's purported financing agreements, (3) Terax's supposed acquisition of a controlling interest in a foreign oil and gas firm, (4) the existence, terms and status of a purported share exchange agreement between Terax and Westar Oil, Inc., and (5) the identity of the persons in control of the operations and management of Terax.

The Commission is of the opinion that the public interest and the protection of investors require a suspension of trading in the securities of the above-listed company.

Therefore, it is ordered, pursuant to Section 12(k) of the Securities Exchange Act of 1934, that trading in the above-listed company is suspended for the period from 9:30 a.m. EDT, September 12, 2007 through 11:59 p.m. EDT, on September 25, 2007.

By the Commission.
Florence E. Harmon,
Deputy Secretary.

[FR Doc. E7-18268 Filed 9-17-07; 8:45 am]

BILLING CODE 8010-01-P